DEPARTMENT OF TRANSPORTATION

Federal Highway Administration

Environmental Impact Statement; Bradford County, FL

AGENCY: Federal Highway Administration (FHWA), DOT.

ACTION: Notice of intent.

SUMMARY: The FHWA is issuing this notice to advise the public that an Environmental Impact Statement (EIS) will be prepared for a proposed highway project in Bradford County, Florida.

FOR FURTHER INFORMATION CONTACT: Greg Hall, Transportation Engineer, Federal Highway Administration, 545 John Knox Road, Suite 200, Tallahassee, Florida 32303, Telephone: (850) 942-9650, extension 3033.

SUPPLEMENTARY INFORMATION: The FHWA, in cooperation with the Florida Department of Transportation will prepare an EIS for a proposal to improve US 301 (SR 200) in Bradford County. The proposed improvement would involve US 301 through the City of Starke. The study corridor is approximately 9 miles long. The proposed improvement is considered necessary to provide for existing and projected traffic demand. Alternatives under consideration include: (1) Taking no action; (2) widening US 301 to a six lane divided roadway with auxiliary lanes within the City of Starke; and (3) utilizing a rural corridor on a new alignment which would serve as a by-pass around the City of Starke.

Coordination with appropriate Federal, State, and local agencies, and with private organizations and citizens who have expressed interest in this proposal has been undertaken and will continue. A series of public meetings has been held in Bradford County. In addition, a public hearing will be held in the future. Public notice will be given of the time and place of the hearing. The Draft EIS will be made available for public and agency review and comment. There are no plans to hold a formal scoping meeting after this notice of intent to prepare an EIS. The information gained through agency meetings, the Florida Efficient Transportation Decision Making (ETDM) process, and public involvement will be used for scoping. The ETDM process is approved by FHWA as meeting the streamlining requirements of Section 6002 of Safe, Accountable, Flexible, Efficient Transportation Equity Act: A legacy for user (SAFETEA-LU).

To ensure that the full range of issues related to the proposed action is addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: February 12, 2007.
David C. Gibbs,
Division Administrator, Tallahassee, Florida.

[FR Doc. 07-767 Filed 2-20-07; 8:45 am]

BILLING CODE 4910-22-M